DEPARTMENT OF HEALTH AND HUMAN SERVICES

Administration for Children and Families

[CFDA Number: 93.676]

Announcement of the Award a Single-Source Program Expansion Supplement Grant to BCFS Health and Human Services in San Antonio, TX

AGENCY: Office of Refugee Resettlement, ACF, HHS.

ACTION: Notice of award of a single-source program expansion supplement grant to BCFS Health and Human Services (BCFS) in San Antonio, TX.

SUMMARY: The Administration for Children and Families (ACF), Office of Refugee Resettlement (ORR), announces the award of a single-source program expansion supplement grant for $5,820,000 to BCFS Health and Human Services (BCFS) in San Antonio, TX, under the Unaccompanied Children's (UC) Program to support a program expansion supplement.

The expansion supplement grant will support the need to increase shelter capacity to accommodate the increasing numbers of UCs being referred by DHS.

BCFS has a network of trained, qualified emergency staff able to bring on board and operate emergency beds in short timeframe. BCFS provides residential services to UC in the care and custody of ORR, as well as services to include counseling, case management, and additional support services to the family or to the UC and their sponsor when a UC is released from ORR's care and custody.

DATES: Supplemental award funds will support activities from October 1, 2015 through September 30, 2016.

FOR FURTHER INFORMATION CONTACT: Jallyn Sualog, Director, Division of Children's Services, Office of Refugee Resettlement, 330 C Street SW., Washington, DC 20201. Email: DCSProgram@acf.hhs.gov.

SUPPLEMENTARY INFORMATION: While the number of referrals, to the Unaccompanied Children Program in FY 2015, was below the total referrals from FY 2014, ORR has seen a change to recent referral trends. The UC program has seen an increase in the numbers of UC referred for placement since January 2015. FY15 was the first fiscal year, in the history of the UC program, in which there were eight (11) consecutive months of steadily increasing referrals. During FY 15, the largest total referrals occurred during August, with over 4,300 referrals, and these high referral numbers continued into the month of September with 4,172 referrals. In October and November, 2015, the DCS program has received referrals for initial placements for 10,158 unaccompanied children. ORR has experienced a steadily increasing census of UC in care, with longer average length of stay. This increase, in UC referred for placement, has increased the need for additional shelter beds.

ORR has specific requirements for the provision of services. Award recipients must have the infrastructure, licensing, experience, and appropriate level of trained staff to meet the service requirements and the urgent need for expansion of services. The program's ability to avoid a buildup of children waiting, in Border Patrol stations, for placement in shelters, can only be accommodated through the expansion of the existing program and its services through the supplemental award.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C.D. Cal. 1996), as well as the William Wilberforce Trafficking Victims Protection Reauthorization Act of 2008 (Pub.L. 110-457), which authorizes post release services under certain conditions to eligible children. All programs must comply with the Flores Settlement Agreement, Case No. CV85-4544-RJK (C.D. Cal. 1996), pertinent regulations and ORR policies and procedures.

Christopher Beach,
Senior Grants Policy Specialist, Division of Grants Policy, Office of Administration.

[FR Doc. 2016-09383 Filed 4-21-16; 8:45 am]

BILLING CODE 4184-01-P